ENVIRONMENTAL PROTECTION AGENCY

[FRL-7235-3]

Notice of Availability of Funds; Research To Develop Improved Methods and Approaches To Empower Communities To Participate More Effectively in Environmental Cleanups

AGENCY: Environmental Protection Agency.

ACTION: Notice of availability of funds.

SUMMARY: The Environmental Protection Agency (EPA), Office of Research and Development, National Center for Environmental Assessment (NCEA), is issuing this Request for Applications (RFA) for cooperative agreements to provide assistance conducting research to stimulate advances in the science of risk communication so that more effective methods, tools, and models can be used to empower communities to participate more effectively in environmental cleanups, especially the cleanup of contaminated sediment sites. Possible projects under this solicitation might include one or more of the following topics: tools to measure community preferences, tools to summarize complex data, methods to extract and utilize community-based knowledge, methods to assess impacts on societal/cultural practices, outreach tools for large geographic sites, and methods to evaluate the effectiveness of community involvement programs. The primary purpose of the research solicited by this document is to stimulate scientific research on the general topic of environmental risk communication and community involvement. The secondary purpose of the solicitation is to generate insights, methods, tools, and models that might be used to empower communities to participate more effectively in environmental cleanups, especially the cleanup of contaminated sediment sites. The total value of these cooperative agreement awards is estimated to range from $100,000 to $500,000 total over a period of one to three years depending on the availability of funding.

DATES: Applications must be postmarked, dated by a delivery service, or marked received by NCEA personnel by September 19, 2002.

ADDRESSES: Solicitation packages can be found on the NCEA Web site http://www.epa.gov/ncea/. Information about the full application process and application forms are found in the “Application Kit for Assistance” on the following web site: http://www.epa.gov/ogd/AppKit/. They also can be requested from the EPA contact person at the address and phone number below.

FOR FURTHER INFORMATION CONTACT: David Kelley, preferably by email: kelley.dave@epa.gov, also by mail: U.S. EPA, Mail Code 8623D, 1200 Pennsylvania Avenue, NW., Washington, DC 20460; telephone: 202-564-3263; or facsimile: 202-564-2268.

Dated: June 12, 2002.
Art Payne,
Acting Director, National Center for Environmental Assessment.

[FR Doc. 02-15614 Filed 6-19-02; 8:45 am]

BILLING CODE 6560-50-P